DEPARTMENT OF ENERGY

Federal Energy Regulatory Commission

[Docket No. CP00-34-000]

Algonquin Gas Transmission Company; Notice of Site Visit

February 9, 2000.

On February 16, 2000 the Office of Pipeline Regulation (OPR) staff will inspect Algonquin Gas Transmission Company's (Algonquin) proposed route and potential alternative routes for the Fore River Project in Norfolk County, Massachusetts. The areas will be inspected by automobile. Representatives of Algonquin will accompany the OPR staff. Anyone interested in participating in the site visits must provide their own transportation.

For additional information, contact Mr. Paul McKee of the Commission's Office of External Affairs at (202) 208-1088.

Linwood A. Watson, Jr.,
Acting Secretary.

[FR Doc. 00-3463 Filed 2-14-00; 8:45 am]

BILLING CODE 6717-01-M